DEPARTMENT OF ENERGY

Federal Energy Regulatory Commission

[Docket No. RP00-222-001]

Northern Natural Gas Company; Notice of Compliance Filing

May 17, 2000.

Take notice that on May 11, 2000, Northern Natural Gas Company (Northern), tendered for filing in its FERC Gas Tariff, Fifth Revised Volume No. 1, the following tariff sheets proposed to be effective Marcy 27, 2000:

Substitute Fifth Revised Sheet No. 286

Substitute Fourth Revised Sheet No. 288

Northern states that the purpose of this filing is to comply with the Commission's Order of April 26, 2000 in Docket No. RP00-222-000. Northern is filing revised tariff sheets to clarify that there are no maximum rates for short-term capacity releases, that all releases for more than one month must be posted, and to include the sunset date of September 30, 2002, for the price cap waiver.

Northern further states that copies of the filing have been mailed to each of its customers and interested State Commissions.

Any person desiring to protest this filing should file a protest with the Federal Energy Regulatory Commission, 888 First Street NE, Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-12863 Filed 5-22-00; 8:45 am]

BILLING CODE 6717-01-M